DEPARTMENT OF HEALTH AND HUMAN SERVICES

Centers for Disease Control and Prevention

[Docket No. CDC-2022-0044]

CDC Recommendations for Hepatitis B Screening and Testing—United States, 2022

AGENCY: Centers for Disease Control and Prevention (CDC), Department of Health and Human Services (HHS).

ACTION: General notice.

SUMMARY: The Centers for Disease Control and Prevention (CDC), within the Department of Health and Human Services (HHS), announces the availability of the final CDC Recommendations for Hepatitis B Screening and Testing—United States, 2022.

DATES: The final document was published as an MMWR Reports & Recommendations on March 10, 2023.

ADDRESSES: The document may be found in the docket at www.regulations.gov, Docket No. CDC-2022-0044 and at https://www.cdc.gov/mmwr/volumes/72/rr/rr7201a1.htm?s_cid=rr7201a1_w.

FOR FURTHER INFORMATION CONTACT: Erin Conners, Centers for Disease Control and Prevention, 1600 Clifton Road NE, Mailstop U12-3, Atlanta, GA 30329. Telephone: 404-639-8000; Email: DVHpolicy@cdc.gov.

SUPPLEMENTARY INFORMATION: In 2022, CDC determined that CDC Recommendations for Hepatitis B Screening and Testing—United States, 2022 constituted influential scientific information (ISI) that will have a clear and substantial impact on important public policies and private sector decisions. Under the Information Quality Act, Public Law 106-554, federal agencies are required to conduct peer review of the information by specialists in the field who were not involved in the development of these recommendations. CDC solicited nominations for reviewers from the American Association for the Study of Liver Diseases (AASLD), Infectious Diseases Society of America (IDSA) and American College of Physicians (ACP). Five clinicians with expertise in hepatology, gastroenterology, internal medicine, infectious diseases, and/or pediatrics provided structured peer reviews. A list of peer reviewers and CDC's responses to peer review comments are available at CDC's Viral Hepatitis Influential Scientific Information web page at https://www.cdc.gov/hepatitis/policy/isireview/index.htm.

In addition, on April 4, 2022, CDC published a notice in the Federal Register (87 FR 19516-19517) to obtain public comment on the draft recommendations for hepatitis B screening and testing. The comment period closed on June 3, 2022. CDC received comments from 28 commenters on the draft recommendations document. Public commenters included those from academia, the health care sector, advocacy groups, professional organizations, industry, the public, and a consulting group.

Many of the comments expressed support for the recommendations. Other comments related to the 3-panel test recommendation, inclusion of hepatitis D information, the hepatitis B prevalence estimate, modifying testing and vaccination language, adding scientific references, and making other minor language modifications. CDC addressed these comments by correcting, clarifying, or updating content in the final recommendations. A summary of public comments and CDC's response can be found in the Documents tab of the docket.

Tiffany Brown,
Acting Executive Secretary, Centers for Disease Control and Prevention.

[FR Doc. 2023-05715 Filed 3-20-23; 8:45 am]

BILLING CODE 4163-18-P